DEPARTMENT OF COMMERCE

National Oceanic and Atmospheric Administration

50 CFR Part 635

RIN 0648-BD22

Atlantic Highly Migratory Species; Atlantic Shark Management Measures; Draft Amendment 5b

AGENCY: National Marine Fisheries Service (NMFS), National Oceanic and Atmospheric Administration (NOAA), Commerce.

ACTION: Notice of change of public hearing location.

SUMMARY: On October 18, 2016, NMFS published a proposed rule for Amendment 5b to the 2006 Consolidated Highly Migratory Species (HMS) Fishery Management Plan (FMP) based on the results of the 2016 stock assessment update for Atlantic dusky sharks. Based on the assessment update, NMFS determined that the stock remains overfished and is experiencing overfishing. As described in the proposed rule, NMFS proposed management measures that would reduce fishing mortality on dusky sharks and rebuild the dusky shark population, consistent with legal requirements. The proposed rule included times and locations of several public hearings. This notice announces that we are changing the location of the Florida public hearing.

DATES: NMFS will hold six public hearings on Draft Amendment 5b as announced in the October 18, 2016 proposed rule, except the November 21, 2016 meeting location has changed from Melbourne, Florida, to Satellite Beach, Florida. Written comments on the October 18, 2016 proposed rule for Amendment 5b will be accepted until December 22, 2016. See SUPPLEMENTARY INFORMATION for the revised Florida meeting location. See SUPPLEMENTARY INFORMATION in the Amendment 5b proposed rule (October 18, 2016, 81 FR 71672) for the other public hearings, conference calls, and an HMS Advisory Panel meeting dates, times, and locations.

ADDRESSES: NMFS will hold a public hearing on the proposed rule for Amendment 5b to the 2006 Consolidated HMS FMP (October 18, 2016, 81 FR 71672) in Satellite Beach, FL. For specific location, date and time see the SUPPLEMENTARY INFORMATION section of this document.

Copies of the supporting documents—including the draft environmental impact statement (DEIS), Regulatory Impact Review (RIR), Initial Regulatory Flexibility Analysis (IRFA), and the 2006 Consolidated Atlantic HMS FMP are available from the HMS Web site at http://www.nmfs.noaa.gov/sfa/hms/ or by contacting Tobey Curtis at 978-281-9273.

FOR FURTHER INFORMATION CONTACT: Tobey Curtis at 978-281-9273 or Karyl Brewster-Geisz at 301-427-8503.

SUPPLEMENTARY INFORMATION:

Background

On October 18, 2016, NMFS published a proposed rule (81 FR 71672) for Draft Amendment 5b to the 2006 Consolidated HMS FMP based on the results of the 2016 stock assessment update for Atlantic dusky sharks. Based on this assessment, NMFS determined that the dusky shark stock remains overfished and is experiencing overfishing and in the Draft Amendment proposed management measures that would reduce fishing mortality on dusky sharks and rebuild the dusky shark population consistent with legal requirements. The comment period for the proposed rule closes December 22, 2016, and any comments received during the comment period will be considered in the development of Final Amendment 5b to the 2006 Consolidated HMS FMP.

Request for Comments

As announced in the proposed rule, NMFS will hold six public hearings (in New Jersey, Rhode Island, Louisiana, Texas, Florida, and North Carolina) to provide the opportunity for public comment on the proposed measures. NMFS will also hold one public conference call/webinar to provide individuals an opportunity to submit public comment if they are unable to attend a public hearing. Due to a scheduling conflict at the Melbourne Public Library, the location of the Florida public hearing announced in the proposed rule has changed. The public hearing will now be held in Satellite Beach, FL; the date and time have not changed (Table 1). None of the other public hearing locations have changed.

Table 1—Date, Time and Location of Rescheduled Public Hearing
Venue | Date/Time | Meeting locations | Location contact information
Public Hearing | November 21, 2016, 5 p.m.-8 p.m. | Satellite Beach, FL | Satellite Beach Public Library, 751 Jamaica Blvd., Satellite Beach, FL 32937.

The public is reminded that NMFS expects participants at the public hearing to conduct themselves appropriately. At the beginning of each public hearing, a representative of NMFS will explain the ground rules (e.g., alcohol is prohibited from the hearing room; attendees will be called to give their comments in the order in which they registered to speak; each attendee will have an equal amount of time to speak; and attendees should not interrupt one another). The NMFS representative will attempt to structure the meeting so that all attending members of the public will be able to comment, if they choose, regardless of the controversial nature of the subject(s). Attendees are expected to respect the ground rules, and, if they do not, they may be asked to leave the hearing or conference call.

Authority: 16 U.S.C. 971 et seq.; 16 U.S.C. 1801 et seq.

Dated: November 8, 2016.
Jennifer M. Wallace,
Acting Director, Office of Sustainable Fisheries, National Marine Fisheries Service.

[FR Doc. 2016-27287 Filed 11-10-16; 8:45 am]

BILLING CODE 3510-22-P